DEPARTMENT OF THE INTERIOR

National Park Service

[NPS-WASO-IEV-NPS0040381; PPWOIEADC0, PPMVSIE1Y.Y00000 (255); OMB Control Number 1024-0288]

Agency Information Collection Activities; Education Reservation Request Form

AGENCY: National Park Service, Interior.

ACTION: Notice of information collection; request for comment.

SUMMARY: In accordance with the Paperwork Reduction Act of 1995, we, the National Park Service (NPS) are proposing to renew an information collection.

DATES: Interested persons are invited to submit comments which NPS must receive on or before September 8, 2025.

ADDRESSES: Written comments on this information collection request (ICR) can be sent by mail to Phadrea Ponds, NPS Information Collection Clearance Officer (ADIR-ICCO), 13461 Sunrise Valley Drive (MS-244) Reston, VA 20192 (mail); or phadrea_ponds@nps.gov (email). Please reference Office of Management and Budget (OMB) Control Number 1024-0288 in the subject line of your comments.

FOR FURTHER INFORMATION CONTACT: To request additional information about this ICR, contact Shauna Potocky, Education Strategist, by email at shauna_potocky@nps.gov, or by telephone at 202-641-8424. Please reference Office of Management and Budget (OMB) Control Number 1024-0288 in the subject line of your comments. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In accordance with the Paperwork Reduction Act of 1995, (PRA, 44 U.S.C. 3501et seq.) and 5 CFR 1320.8(d)(1), all information collections require approval under the PRA. As part of our continuing effort to reduce paperwork and respondent burdens, we invite the public and other Federal agencies to comment on new, proposed, revised, and continuing collections of information. This helps us assess the impact of our information collection requirements and minimize the public's reporting burden. It also helps the public understand our information collection requirements and provide the requested data in the desired format. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: NPS is authorized by 54 U.S.C. 100701 Protection, interpretation, and research in System to administer education programs for education audiences including but not limited to school groups, scouting groups, extracurricular groups, and home school groups. To effectively manage requests received for NPS educational programs, the NPS Washington Support Office Division of Interpretation, Education, and Volunteers seeks approval for the continued use of the approved Service-wide 10-1750 Education Reservation Request Form.

The NPS Form10-1750 collects necessary reservation information, including (1) Person(s) or organization(s) requesting education program services, (2) Type of program requested, (3) Logistical details including, date, time, grade level, number of students, (4) Technology available to the group for distance learning programming, and (5) Criteria for academic fee waiver eligibility.

This information facilitates operational aspects of scheduling groups for in-park education programs, ranger-in-classroom programs, and/or online distance learning programs. The form will be fully electronic and available on participating parks websites for the purpose of making school group reservations and accommodating public requests for group education programming.

Title of Collection: Education Reservation Request Form.

OMB Control Number: 1024-0288.

Form Number: 10-1750 Education Reservation Request Form.

Type of Review: Renewal.

Respondents/Affected Public: Educators at public and private schools, homeschool groups, school-age clubs.

Total Estimated Number of Annual Respondents: 62,000.

Total Estimated Number of Annual Responses: 62,000.

Estimated Completion Time per Response: 5 minutes.

Total Estimated Number of Annual Burden Hours: 5,167.

Respondent's Obligation: Required to obtain a benefit.

Frequency of Collection: On occasion.

Total Estimated Annual Non hour Burden Cost: None

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2025-12748 Filed 7-8-25; 8:45 am]

BILLING CODE 4312-52-P